DEPARTMENT OF TRANSPORTATION

Coast Guard

33 CFR Part 165

[CGD1-02-094]

RIN 2115-AA97

Safety Zone; Salem Heritage Days Fireworks, Salem, MA

AGENCY: Coast Guard, DOT.

ACTION: Temporary final rule.

SUMMARY: The Coast Guard is establishing a temporary safety zone for the Salem Heritage Days Fireworks, to be held on August 17, 2002, in Salem Harbor, Salem, MA. The safety zone will temporarily close all waters of Salem Harbor within a four hundred (400) yard radius of the fireworks barge. The possibility of firework debris entering the waterway necessitates the need for a safety zone to prevent any potential marine casualties. This rule prohibits entry into or movement within this portion of Salem Harbor and is needed to protect the maritime public from the hazards posed by a fireworks display.

DATES: This rule is effective from 9 p.m. until 10 p.m. on August 17, 2002.

ADDRESSES: Documents indicated in this preamble as being available in the docket, are part of docket (CGD01-02-094) and are available for inspection or copying at Marine Safety Office Boston, 455 Commercial Street, Boston, MA between the hours of 8 a.m. and 3 p.m., Monday through Friday, except Federal holidays.

FOR FURTHER INFORMATION CONTACT: Chief Petty Officer Daniel Dugery, Marine Safety Office Boston, Waterways Management Division, at (617) 223-3000.

SUPPLEMENTARY INFORMATION:

Regulatory History

Pursuant to 5 U.S.C. 553, a notice of proposed rulemaking (NPRM) was not published for this regulation. Good cause exists for not publishing a NPRM and for making this regulation effective in less than 30 days after Federal Register publication. Information about this event was not provided to the Coast Guard until July 17, 2002, making it impossible to draft or publish a NPRM or a final rule 30 days in advance of its effective date. Any delay in implementing this rule would be contrary to the public interest, since immediate action is needed to prevent traffic from transiting a portion of Salem Harbor, Salem, Massachusetts, and provide for the safety of life on navigable waters. Additionally, vessels will only be limited from the area of the safety zone for 1 hour, the zone will have negligible impact on vessel transits due to the fact that vessels can safely transit outside the zone in the majority of Salem Harbor, and vessels are not precluded from using any portion of the waterway except the safety zone area itself.

Background and Purpose

The Town of Salem is holding a fireworks display for its Salem Heritage Days celebration. This rule establishes a safety zone on all waters in Salem Harbor within a four hundred (400) yard radius around the fireworks barge located at 42°32′27″ N, 070°051′74″ W (NAD 83). The safety zone is in effect from 9 p.m. until 10 p.m. August 17, 2002. This rule prohibits entry into or movement within this portion of Salem Harbor and is needed to protect the maritime public from the dangers posed by this event. Marine traffic may transit safely outside of the safety zone during the event. The Captain of the Port anticipates negligible impact on vessel traffic due to this event. Public notifications will be made prior to the effective period via local notice to mariners and marine information broadcasts.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this rule to be minimal enough that a full Regulatory Evaluation under paragraph 10e of the regulatory policies and procedures of DOT is unnecessary.

Although this rule prevents traffic from transiting into a portion of Salem Harbor during this event, the effect of this rule will be negligible for several reasons: Vessels will only be restricted from the safety zone for 1 hour, vessels may safely transit outside of the safety zone without restriction, and advance notifications will be made to the local maritime community by marine information broadcasts.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in a portion of Salem Harbor from 9 p.m. until 10 p.m. August 17, 2002. For reasons enumerated under the Regulatory Evaluation section above this rule will have a negligible economic impact on small entities.

Collection of Information

This rule would call for no new collection of information under the Paperwork Reduction Act of 1995 (44 U.S.C. 3501-3520).

Federalism

The Coast Guard analyzed this rule under Executive Order 13132, Federalism, and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Safety Risks. This rule is not an economically significant rule and does not pose an environmental risk to health or risk to safety that may disproportionately affect children.

Indian Tribal Governments

This proposed rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

The Coast Guard considered the environmental impact of this rule and concluded that, under figure 2-1, (34)(g), of Commandant Instruction M16475.lD, this rule is categorically excluded from further environmental documentation. A “Categorical Exclusion Determination” is available in the docket where indicated under ADDRESSES.

Energy Effects

We have analyzed this rule under Executive Order 13211, Actions Concerning Regulations that Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. From 9 p.m. until 10 p.m. on August 17, 2002, add temporary § § 165.T01-094 to read as follows:

§ 165.T01-094 Safety Zone; Salem Heritage Days Fireworks, Salem, Massachusetts.

(a) Location. The following area is a safety zone:

All waters of Salem Harbor within a four hundred (400) yard radius of the fireworks barge located in Salem Harbor, Salem, MA, at 42°32′27″ N, 070°051′74″ W. All coordinates are North American Datum 1983.

(b) Effective date. This section is effective from 9 p.m. until 10 p.m. on August 17, 2002.

(c) Regulations. (1) In accordance with the general regulations in § 165.23 of this part, entry into or movement within this zone is prohibited unless authorized by the Captain of the Port Boston.

(2) All vessel operators shall comply with the instructions of the COTP or the designated on-scene U.S. Coast Guard patrol personnel. On-scene Coast Guard patrol personnel including commissioned, warrant, and petty officers of the Coast Guard on board Coast Guard, Coast Guard Auxiliary, local, state, and federal law enforcement vessels.

Dated: July 19, 2002.
B.M. Salerno,
Captain, U. S. Coast Guard, Captain of the Port, Boston, Massachusetts.

[FR Doc. 02-19548 Filed 8-1-02; 8:45 am]

BILLING CODE 4910-15-P